DEPARTMENT OF COMMERCE

National Oceanic and Atmospheric Administration

[I.D. 033106D]

Western Pacific Fishery Management Council; Public Meetings

AGENCY: National Marine Fisheries Service (NMFS), National Oceanic and Atmospheric Administration (NOAA), Commerce.

ACTION: Notice of public meeting and public hearing.

SUMMARY: The Western Pacific Fishery Management Council (Council) will hold its 132nd meeting to consider and take final action on recommendations to limit fishing in the Northwestern Hawaiian Islands (NWHI). The Council will also hold a public hearing during this 132nd Council meeting.

DATES: The 132nd Council meeting and public hearing will be held on Thursday, April 20, 2006. For specific dates, times and locations of the public hearing, and the agenda for the 132nd Council meeting, see SUPPLEMENTARY INFORMATION.

ADDRESSES: The 132nd Council meeting and public hearing will be held at the Council's office, 1164 Bishop Street, Suite 1400, Honolulu, HI 96813. The 132nd Council meeting telephone conference call-in-number is: (866) 867-8289, passcode 1683776. For Guam and International Participants, the call-in-number is: (813) 276-1442, passcode 1683776.

FOR FURTHER INFORMATION CONTACT: Kitty M. Simonds, Executive Director; telephone: (808) 522-8220; fax: (808) 522-8226.

SUPPLEMENTARY INFORMATION:

Background Information

On January 18, 2006, the Council was informed by the Under Secretary of Commerce for Oceans and Atmosphere, that NOAA is developing alternatives in the Draft Environmental Impact Statement for the proposed NWHI National Marine Sanctuary that would enable the Council to continue to recommend management measures to limit bottomfish and pelagic fisheries through regulations under the Magnuson-Stevens Fishery Conservation and Management Act (Magnuson-Stevens Act), consistent with the goals and objectives of the proposed sanctuary. While the preferred alternative has not been selected, the range of alternatives under consideration includes a regulatory regime allowing commercial bottomfishing and non-longline pelagic fishing to continue either: (1) indefinitely, (2) until 2025, or (3) for 5 years with a ban on fishing thereafter.

The Council was also informed that if, by May 1, 2006, it transmits for Secretarial review, an amendment to the Bottomfish and Pelagics Fishery Management Plans (FMPs) and corresponding proposed regulations implementing limits to bottomfish and pelagic fishing, NOAA may review those Magnuson-Stevens Act regulations as potential mechanisms to implement NOAA's preferred alternative for the proposed sanctuary, rather than implementing the alternative via the National Marine Sanctuaries Act.

At its 131st Council meeting held March 13-16, 2006, the Council took initial action and recommended that limited fishing be allowed in federal waters of the proposed NWHI National Marine Sanctuary and managed under the Magnuson-Stevens Act (except for recreational fishing at Midway Atoll), consistent with all codified federal regulations and subject to the following restrictions:

a. A closure be established indefinitely for all harvests of crustacean, precious coral and coral reef ecosystem species;

b. All commercial and recreational fishing be subject to Magnuson-Stevens Act permit and logbook reporting requirements

c. Recreational fishing permits be issued on a case-by case basis, and that the Council will evaluate the need for further management;

d. Limited-entry NWHI bottomfish permits be capped at 14, with 7 permits for the Ho'omalu Zone and 7 permits for the Mau Zone (the two Community Development Program permits for indigenous use to be included in the latter and issued as previously recommended by the Council);

e. The annual bottomfish catch be limited to 381,500 lbs (85% of Maximum Sustainable Yield);

f. Non-longline commercial pelagic fishing permits be capped at three (3);

g. The annual commercial pelagic catch by the non-longline pelagic fishery and the limited-entry bottomfish fishery be limited to 180,000 lbs.;

h. No-take Marine Protected Areas be established around French Frigate Shoals and West of 174 W longitude;

i. The use-or-lose requirements for renewal of commercial bottomfish permits be removed;

j. Relinquished or revoked commercial bottomfish permits be reissued by NMFS in accordance with the existing procedures for Ho'omalu Zone permits and as described in the Council's previous recommendation for Mau Zone permits; and

k. Federally permitted research regarding fishery and ecosystem conservation and management would be allowed in Federal waters.

The Council will consider final action on these proposed limits to fishing in the NWHI at this 132nd meeting.

132nd Council Meeting Agenda

Thursday, April 20, 2006, 1 p.m. Hawaii Standard Time

1. Introductions

2. Approval of Agenda

3. Limits to Fishing in the NWHI

4. Public Hearing

5. Council Discussion and Action

6. Other Business

Although non-emergency issues not contained in this agenda may come before the Council for discussion, those issues may not be the subject of formal Council action during its 132nd meeting. Council action will be restricted to those issues specifically listed in this document and any issue arising after publication of this document that requires emergency action under section 305(c) of the Magnuson-Stevens Act, provided the public has been notified of the Council's intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: April 3, 2006.
Tracey L. Thompson,
Acting Director, Office of Sustainable Fisheries, National Marine Fisheries Service.

[FR Doc. E6-4983 Filed 4-5-06; 8:45 am]

BILLING CODE 3510-22-S